DEPARTMENT OF HEALTH AND HUMAN SERVICES

Centers for Disease Control and Prevention

[Program Announcement 04158]

Demonstration Projects for Implementation of Rapid HIV Testing in Historically Black Colleges and Universities and Alternative Venues and Populations; Amendment

A notice announcing the availability of fiscal year (FY) 2004 funds for a cooperative agreement entitled, “Demonstration Projects for Implementation of Rapid HIV Testing in Historically Black Colleges and Universities and Alternative Venues and Populations” was published in the Federal Register Wednesday, June 23, 2004, Volume 69, Number 120, pages 35035-35039. The notice is amended as follows:

On page 35035, column three, the Purpose section, please note: Part 1 of this funding opportunity serves only attendees of Historically Black Colleges and Universities (HBCUs), not Hispanic Serving Institutions.

On page 35036, column three, under “Award Information,” please:

Change the project period from 12 months to two years.

Dated: July 8, 2004.
William P. Nichols,
Acting Director, Procurement and Grants Office, Centers for Disease Control and Prevention.

[FR Doc. 04-15914 Filed 7-13-04; 8:45 am]

BILLING CODE 4163-18-P